DEPARTMENT OF HEALTH AND HUMAN SERVICES

National Institutes of Health

Office of the Director, National Institutes of Health; Notice of Meeting

Pursuant to section 10(d) of the Federal Advisory Committee Act, as amended (5 U.S.C. App.), notice is hereby given of a meeting of the Council of Councils.

The meeting will be open to the public as indicated below, with attendance limited to space available. Individuals who plan to attend and need special assistance, such as sign language interpretation or other reasonable accommodations, should notify the Contact Person listed below in advance of the meeting.

The meeting will be closed to the public in accordance with the provisions set forth in section 552b(c)(9)(B), title 5 U.S.C., as amended because the premature disclosure of other and the discussions would likely to significantly frustrate implementation of recommendations.

Name of Committee: Council of Councils.

Date: August 17, 2010.

Open: 11 a.m. to 12 p.m.

Agenda: Discussion of Roadmap Transformative R01 Program and Review Process. See http://grants.nih.gov/grants/guide/rfa-files/RFA-RM-08-029.html.

Toll-free dial-in number (US and Canada): 888-285-2623. Conference code: 86739025.

Place: National Institutes of Health, Building 1, Room 260, 1 Center Drive, Bethesda, MD 20892 (Telephone Conference Call).

Closed: 12 p.m. to 1:30 p.m.

Agenda: Second-level review of Roadmap Transformative R01 Program grant applications.

Place: National Institutes of Health, Building 1, Room 260, Center Drive, Bethesda, MD 20892.

Contact Person: Robin Kawazoe, Executive Secretary, Council of Councils and Deputy Director, Division of Program Coordination, Planning, and Strategic Initiatives, Office of the Director, National Institutes of Health, Building 1, Room 260, 1 Center Drive, Bethesda, MD 20892, kawazoer@mail.nih.gov, (301) 402-9852.

Additional information, including the meeting agenda is available on the Council of Council's home page: http://dpcpsi.nih.gov/council/.

Any interested person may file written comments with the committee by forwarding the statement to the Contact Person listed on this notice. The statement should include the name, address, telephone number and when applicable, the business or professional affiliation of the interested person.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: July 13, 2010.
Jennifer Spaeth,
Director, Office of Federal Advisory Committee Policy.

[FR Doc. 2010-17702 Filed 7-20-10; 8:45 am]

BILLING CODE 4140-01-P